ENVIRONMENTAL PROTECTION AGENCY

[FRL-9477-8]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB approvals

EPA ICR Number 1360.12; Underground Storage Tanks: Technical and Financial Requirements, and State Program Approval Procedures; 40 CFR parts 280 and 281; was approved on 09/07/2011; OMB Number 2050-0068; expires on 09/30/2014; Approved with change.

EPA ICR Number 2028.06; NESHAP for Industrial, Commercial, and Institutional Boilers and Process Heaters; 40 CFR part 63, subparts A and DDDDD; was approved on 09/08/2011; OMB Number 2060-0551; expires on 09/30/2014; Approved with change.

EPA ICR Number 2253.02; NESHAP for Industrial, Commercial, and Institutional Boilers Area Sources; 40 CFR part 63, subparts A and JJJJJJ; was approved on 09/08/2011; OMB Number 2060-0668; expires on 09/30/2014; Approved with change.

EPA ICR Number 2399.01; Palos Verdes Shelf Seafood Consumption Survey (New); was approved on 09/08/2011; OMB Number 2009-0003; expires on 09/30/2014; Approved with change.

EPA ICR Number 1655.07; Regulation of Fuels and Fuel Additives: Detergent Gasoline; 40 CFR part 80, subpart G; was approved on 09/14/2011; OMB Number 2060-0275; expires on 09/30/2014; Approved without change.

EPA ICR Number 2392.02; Fuel Economy Labeling of Motor Vehicles (Final Rule); 40 CFR parts 85, 86, and 600; was approved on 09/14/2011; OMB Number 2060-0669; expires on 09/30/2014; Approved without change.

EPA ICR Number 0222.09; EPA's Light-Duty In-Use Vehicle Testing Program (Renewal); was approved on 09/29/2011; OMB Number 2060-0086; expires on 09/30/2014; Approved without change.

EPA ICR Number 1204.11; Submission of Unreasonable Adverse Effects Information Under FIFRA Section 6(a); 40 CFR part 159, subpart D; was approved on 09/30/2011; OMB Number 2070-0039; expires on 09/30/2014; Approved without change.

EPA ICR Number 2434.01; Generic Clearance for the Collection of Qualitative Feedback on Agency Service Delivery (New); was approved on 09/28/2011; OMB Number 2010-0042; expires on 09/30/2014; Approved without change.

Withdrawn and Continue

EPA ICR Number 2336.02; Turbidity Monitoring Requirements for Construction Sites Regulated by the Effluent Limitations Guidelines and Standards for the Construction and Development Point Source Category (Final Rule); Withdrawn from OMB on 09/30/2011.

Dated: October 4, 2011.
John Moses,
Director, Collections Strategies Division.

[FR Doc. 2011-26239 Filed 10-11-11; 8:45 am]

BILLING CODE 6560-50-P